DEPARTMENT OF COMMERCE

International Trade Administration

[A-475-840]

Forged Steel Fluid End Blocks From Italy: Final Results of the Antidumping Duty Administrative Review; 2022

AGENCY: Enforcement and Compliance, International Trade Administration, Department of Commerce.

SUMMARY: The U.S. Department of Commerce (Commerce) determines that certain producers/exporters subject to this administrative review made sales of forged steel fluid end blocks (fluid end blocks) from Italy at less than normal value during the period of review (POR) January 1, 2022, through December 31, 2022.

DATES: Applicable August 16, 2024.

FOR FURTHER INFORMATION CONTACT: Allison Hollander or Claudia Cott, AD/CVD Operations, Office I, Enforcement and Compliance, International Trade Administration, U.S. Department of Commerce, 1401 Constitution Avenue NW, Washington, DC 20230; telephone: (202) 482-2805 or (202) 482-4270.

SUPPLEMENTARY INFORMATION:

Background

On February 6, 2023, Commerce published in the Federal Register the preliminary results of this administrative review of the antidumping duty order ¹ on fluid end blocks from Italy and invited comments from interested parties.² A summary of the events that occurred since Commerce published the Preliminary Results, as well as a full discussion of the issues raised by parties for these final results, are discussed in the Issues and Decision Memorandum.³ On July 22, 2024, Commerce tolled certain deadlines in this administrative proceeding by seven days. The deadline for the final results of this administrative review is now August 9, 2024.⁴ Commerce conducted this review in accordance with section 751(a)(1)(B) of the Tariff Act of 1930, as amended (the Act).

¹ See Forged Steel Fluid End Blocks from the Federal Republic of Germany and Italy: Amended Final Antidumping Duty Determination for the Federal Republic of Germany and Antidumping Duty Orders, 86 FR 7528 (January 29, 2021) (Order).

² See Forged Steel Fluid End Blocks from Italy: Preliminary Results and Rescission in Part of Antidumping Duty Administrative Review; 2022, 89 FR 8157 (February 6, 2024) (Preliminary Results), and accompanying Preliminary Decision Memorandum (PDM).

³ See Memorandum, “Decision Memorandum for the Final Results of the Antidumping Duty Administrative Review of Forged Steel Fluid End Blocks from Italy; 2022,” dated concurrently with, and hereby adopted by, this notice (Issues and Decision Memorandum).

⁴ See Memorandum, “Tolling of Deadlines for Antidumping and Countervailing Duty Proceedings,” dated July 22, 2024.

Scope of the Order

The merchandise subject to the Order are fluid end blocks from Italy. For a complete description of the scope of the Order, see the Issues and Decision Memorandum.

Analysis of Comments Received

All issues raised in the case and rebuttal briefs filed by parties in this review are listed as an appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Commerce evaluated the comments in the case and rebuttal briefs and record evidence and made no changes from the Preliminary Results. For a discussion of the comments, see the Issues and Decision Memorandum.

Rate for Non-Examined Company

The statute and Commerce's regulations do not address the establishment of a rate to be applied to companies not selected for individual examination when Commerce limits its examination in an administrative review pursuant to section 777A(c)(2) of the Act. Generally, Commerce looks to section 735(c)(5) of the Act, which provides instructions for calculating the all-others rate in an investigation of sales at less than fair value (LTFV), for guidance when calculating the weighted-average dumping margin for companies which were not selected for individual examination in an administrative review.

Under section 735(c)(5)(A) of the Act, the all-others rate is normally “an amount equal to the weighted average of the estimated weighted-average dumping margins established for exporters and producers individually investigated, excluding any zero or de minimis margins, and any margins determined entirely {on the basis of facts available}.” We calculated a dumping margin for Lucchini Mamé Forge S.p.A., Lucchini Industries S.r.l., and Lucchini RS S.p.A (collectively Lucchini) ⁵ that is not zero, de minimis, or determined entirely on the basis of facts available. Accordingly, we assigned a margin of 1.41 percent based on Lucchini's calculated weighted-average dumping margin to the sole non-selected respondent, Officine Meccaniche Roselli S.r.l.

⁵ In the Preliminary Results, we collapsed these three companies into a single entity. See Preliminary Results, 89 FR at 8157, n.3, and Preliminary Results PDM at 5-7. For the final results, we continue to find that these three companies comprise a single entity.

Final Results of Administrative Review

Commerce determines that the following estimated weighted-average dumping margins exist for the period January 1, 2022, through December 31, 2022:

Producer/exporter | Weighted- average dumping margin (percent)
Lucchini Mamé Forge S.p.A.; Lucchini Industries S.r.l.; Lucchini RS S.p.A | 1.41
Cogne Acciai Speciali S.p.A | 0.00
Officine Meccaniche Roselli S.r.l | 1.41

Disclosure

Normally, Commerce will disclose the calculations performed in connection with the final results to parties in this proceeding within five days of the date of public announcement or, if there is no public announcement, within five days of the date of publication of the final results in the Federal Register, in accordance with 19 CFR 351.224(b). However, because we have made no changes from the Preliminary Results, there are no new calculations to disclose.

Assessment Rates

Pursuant to section 751(a)(2)(C) of the Act and 19 CFR 351.212(b), Commerce shall determine, and CBP shall assess, antidumping duties on all appropriate entries of subject merchandise in accordance with the final results of this review. For any individually examined respondents whose weighted-average dumping margin is above de minimis, we calculated importer-specific ad valorem duty assessment rates based on the ratio of the total amount of antidumping duties calculated for the examined sales to the total entered value of the examined sales to that importer. If the respondent's weighted-average dumping margin is zero or de minimis within the meaning of 19 CFR 351.106(c)(1) or an importer-specific assessment rate is zero or de minimis, we will instruct CBP to liquidate the appropriate entries without regard to antidumping duties.

For entries of subject merchandise during the POR produced by either of the individually examined respondents for which it did not know that the merchandise was destined to the United States, we will instruct CBP to liquidate those entries at the all-others rate (i.e., 7.33 percent) ⁶ if there is no rate for the intermediate company(ies) involved in the transaction.⁷

⁶ See Order, 86 FR at 7530.

⁷ See Antidumping and Countervailing Duty Proceedings: Assessment of Antidumping Duties, 68 FR 23954 (May 6, 2003).

For Officine Meccaniche Roselli S.r.l., who was not selected for individual examination, we will instruct CBP to assess antidumping duties at a rate equal to the weighted-average dumping margin established in the final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, a prior review, or the investigation of sales at LTFV, but the producer is, then the cash deposit rate will be the rate established for the most recently completed segment of this proceeding for the producer of the merchandise; and (4) the cash deposit rate for all other producers or exporters will continue to be 7.33 percent, the all-others rate established in the LTFV investigation.⁸ These cash deposit requirements, when imposed, shall remain in effect until further notice.

⁸ See Order, 86 FR at 7530.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of countervailing duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing this notice in accordance with sections 751(a)(1) and 777(i)(1) of the Act, and 19 CFR 351.221(b)(5).

Dated: August 9, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Rate for Non-Selected Respondent

V. Changes from the Preliminary Results

VI. Discussion of the Issues

Comment 1: Lucchini's “Channel 1” Sales to the United States

Comment 2: Reconciliation of LIND's Reported Costs

Comment 3: Roselli's Status as a Non-Selected Respondent

VII. Recommendation

[FR Doc. 2024-18416 Filed 8-15-24; 8:45 am]

BILLING CODE 3510-DS-P